DEPARTMENT OF ENERGY

Federal Energy Regulatory Commission

Combined Notice of Filings #1

Take notice that the Commission received the following electric rate filings:

Docket Numbers: ER20-714-001.

Applicants: Whitetail Solar 1, LLC.

Description: Compliance filing: Revised Rate Schedule FERC No. 1 to be effective 3/1/2020.

Filed Date: 3/4/20.

Accession Number: 20200304-5102.

Comments Due: 5 p.m. ET 3/25/20.

Docket Numbers: ER20-1155-000.

Applicants: Midcontinent Independent System Operator, Inc., Otter Tail Power Company.

Description: § 205(d) Rate Filing: 2020-03-03_SA 3439 OTP-Deuel Harvest Wind Energy FSA (J526) BSSB In & Out to be effective 3/4/2020.

Filed Date: 3/3/20.

Accession Number: 20200303-5226.

Comments Due: 5 p.m. ET 3/24/20.

Docket Numbers: ER20-1156-000.

Applicants: New York Independent System Operator, Inc.

Description: § 205(d) Rate Filing: PPTPP Development Agreement—NYISO, LS Power Grid New York & NYPA to be effective 2/3/2020.

Filed Date: 3/4/20.

Accession Number: 20200304-5080.

Comments Due: 5 p.m. ET 3/25/20.

Docket Numbers: ER20-1157-000.

Applicants: Midcontinent Independent System Operator, Inc.

Description: § 205(d) Rate Filing: 2020-03-04_SA 3024 Broadlands-Ameren Illinois 1st Rev GIA (J468) to be effective 2/19/2020.

Filed Date: 3/4/20.

Accession Number: 20200304-5105.

Comments Due: 5 p.m. ET 3/25/20.

Docket Numbers: ER20-1158-000.

Applicants: Midcontinent Independent System Operator, Inc.

Description: § 205(d) Rate Filing: 2020-03-04_SA 3435 Entergy Mississippi-Wildwood Solar GIA (J908) to be effective 2/19/2020.

Filed Date: 3/4/20.

Accession Number: 20200304-5107.

Comments Due: 5 p.m. ET 3/25/20.

Docket Numbers: ER20-1159-000.

Applicants: PJM Interconnection, L.L.C.

Description: § 205(d) Rate Filing: Original WMPA Service Agreement No. 5602; Queue No. AE1-147 to be effective 2/4/2020.

Filed Date: 3/4/20.

Accession Number: 20200304-5115.

Comments Due: 5 p.m. ET 3/25/20.

Docket Numbers: ER20-1160-000.

Applicants: Duke Energy Indiana, LLC.

Description: § 205(d) Rate Filing: 2020 Annual Reconciliation Filing to be effective 7/1/2019.

Filed Date: 3/4/20.

Accession Number: 20200304-5117.

Comments Due: 5 p.m. ET 3/25/20.

Docket Numbers: ER20-1161-000.

Applicants: Midcontinent Independent System Operator, Inc.

Description: § 205(d) Rate Filing: 2020-03-04_SA 3436 Entergy Mississippi-Ragsdale Solar GIA (J830) to be effective 2/20/2020.

Filed Date: 3/4/20.

Accession Number: 20200304-5126.

Comments Due: 5 p.m. ET 3/25/20.

Docket Numbers: ER20-1162-000.

Applicants: Midcontinent Independent System Operator, Inc.

Description: § 205(d) Rate Filing: 2020-03-04_SA 3437 Entergy Louisiana-Catalyst Old River Hydroelectric GIA (J868) to be effective 2/20/2020.

Filed Date: 3/4/20.

Accession Number: 20200304-5127.

Comments Due: 5 p.m. ET 3/25/20.

Docket Numbers: ER20-1163-000.

Applicants: PJM Interconnection, L.L.C.

Description: § 205(d) Rate Filing: Amendment to First Revised WMPA No. 4869; Queue No. AD2-044/AC2-138 to be effective 2/22/2019.

Filed Date: 3/4/20.

Accession Number: 20200304-5150.

Comments Due: 5 p.m. ET 3/25/20.

Docket Numbers: ER20-1165-000.

Applicants: PJM Interconnection, L.L.C.

Description: § 205(d) Rate Filing: Clean up to Sch. 12-Appx A (JCPL), (APS), (AEP), (Dominion)—2020 Annual Update to be effective 1/29/2020.

Filed Date: 3/4/20.

Accession Number: 20200304-5210.

Comments Due: 5 p.m. ET 3/25/20.

Docket Numbers: ER20-1166-000.

Applicants: Outlaw Wind Project, LLC.

Description: § 205(d) Rate Filing: SFA agreement filing to be effective 5/4/2020.

Filed Date: 3/4/20.

Accession Number: 20200304-5228.

Comments Due: 5 p.m. ET 3/25/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 4, 2020.
Nathaniel J. Davis, Sr.,
Deputy Secretary.

[FR Doc. 2020-04870 Filed 3-9-20; 8:45 am]

BILLING CODE 6717-01-P